DEPARTMENT OF AGRICULTURE

Grain Inspection, Packers and Stockyards Administration

[00-04-S]

Designation for the East Indiana (IN), Fremont (NE), and Titus (IN) Areas

AGENCY: Grain Inspection, Packers and Stockyards Administration (GIPSA).

ACTION: Notice.

SUMMARY: GIPSA announces designation of the following organizations to provide official services under the United States Grain Standards Act, as amended (Act):

East Indiana Grain Inspection, Inc. (East Indiana);

Fremont Grain Inspection Department, Inc. (Fremont); and

Titus Grain Inspection, Inc. (Titus).

EFFECTIVE DATES: September 1, 2001.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the December 1, 2000, Federal Register (65 FR 75237), GIPSA asked persons interested in providing official services in the geographic areas assigned to the official agencies named above to submit an application for designation. Applications were due by December 31, 2000.

East Indiana and Titus were the sole applicants for designation to provide official services in the entire area currently assigned to them, so GIPSA did not ask for comments on them. There were two applicants for the Fremont area: Fremont and Sioux City Inspection and Weighing Service Company (Sioux City). Fremont applied for designation to provide official services in the entire area currently assigned to them. Sioux City, a designated official grain inspection agency operating in Iowa, Nebraska, and South Dakota, applied for designation to provide offiical services in all or part of the Fremont geographical area. GIPSA asked for comments on the applicants for providing service in the Fremont area in the March 8, 2001, Federal Register (66 FR 13873). Comments were due by March 31, 2001. GIPSA received no comments by the deadline.

GIPSA evaluated all available information regarding the designation criteria in Section 7(f)(1)(A) of the Act and, according to Section 7(f)(1)(B), determined that East Indiana and Titus are able, and Fremont is better able, to provide official services in the geographic areas specified in the September 1, 2000, Federal Register, for which they applied.

Interested persons may obtain official services by calling the telephone numbers listed below.

Official agency | Headquarters location and telephone | Designation start-end
East Indiana | Muncie, IN: 765-289-1206 | 09/01/2001-06/30/2004
Fremont | Fremont, NE: 402-721-1270 | 09/01/2001-06/30/2004
| Additional Service Location: Denison, IA |
Titus | West Lafayette, IN: 765-497-2202 | 09/01/2001-06/30/2004

Authority: Pub. L. 94-582, 90 Stat. 2867, as amended (7 U.S.C. 71 et seq.).

Dated: May 4, 2001.
David R. Shipman,
Acting Administrator, Grain Inspection, Packers and Stockyards Administration.

[FR Doc. 01-13585 Filed 5-31-01; 8:45 am]

BILLING CODE 3410-EN-U